DEPARTMENT OF THE INTERIOR

Bureau of Indian Affairs

[156A2100DD/AAKC001030/A0A501010.999900 253G]

Tribal Education Department Grant Program

AGENCY: Bureau of Indian Education, Interior.

ACTION: Notice of availability and request for proposals.

SUMMARY: The Bureau of Indian Education (BIE) announces the availability of grants to tribes and their tribal education departments (TEDs) for projects defined under 25 U.S.C. 2020. This notice invites tribes with BIE-funded schools on or near Indian lands to submit grant proposals.

DATES: Grant proposals must be received by September 21, 2015, at 4:00 p.m. Eastern Time. BIE will hold pre-grant proposal training sessions. See SUPPLEMENTARY INFORMATION section for more information.

ADDRESSES: Complete details on requirements for proposals and the evaluation and selection process can be found on the BIE Web site at this address: www.bie.edu. Submit grant proposals to: Bureau of Indian Education, Attn: Wendy Greyeyes, 1849 C Street NW., MS-4657-MIB, Washington, DC 20240. Email submissions will be accepted at this address: wendy.greyeyes@bie.edu. Email submissions are limited to attachments compatible with Microsoft Office Word 2007 or later and/or files with a .pdf file extension. Emailed submissions must not exceed 3MB total in size. See the SUPPLEMENTARY INFORMATION section of this notice for directions on email submissions.

FOR FURTHER INFORMATION CONTACT: Ms. Wendy Greyeyes, Bureau of Indian Education, Office of the BIE Director, (202) 208-5810; wendy.greyeyes@bie.edu.

SUPPLEMENTARY INFORMATION: The Secretary of the Interior, through the BIE, is soliciting grant proposals from federally recognized tribes and their TEDs for projects defined by 25 U.S.C. 2020. These funds will assist tribes in the development and operation of TEDs for the purpose of planning and coordinating all educational programs of the tribe. These funds will support the development of TEDs to improve educational outcomes for students and improve efficiencies and effectiveness in the operation of BIE-funded schools. Grant awards are subject to the availability of funds as appropriated by Congress.

Under 25 U.S.C. 2020, funds will support the program goals for the following areas that promote tribal education capacity building:

1. To provide for the development and enforcement of tribal educational codes, including tribal educational policies and tribal standards applicable to curriculum, personnel, students, facilities, and support programs;

2. To facilitate tribal control in all matters relating to the education of Indian children on reservations (and on former Indian reservations in Oklahoma);

3. To provide for the development of coordinated educational programs (including all preschool, elementary, secondary, and higher or vocational educational programs funded by tribal, Federal, or other sources) on reservations (and on former Indian reservations in Oklahoma) by encouraging tribal administrative support of all Bureau-funded educational programs as well as encouraging tribal cooperation and coordination with entities carrying out all educational programs receiving financial support from other Federal agencies, State agencies, or private entities.

Grant awards will range from $25,000 to $150,000 per fiscal year depending on the project, number of educational programs impacted, project design and expected outcomes. Subject to the availability of appropriated funds, a grant provided under this section shall be provided for a period of three years. If the performance of the grant recipient is satisfactory to the Secretary, the grant may be renewed for an additional two-year term. As prescribed by 25 U.S.C. 2020, top priority will be given to applications that meet the following:

• Serves three or more separate BIE-funded schools. Less priority will be given if applicant has less than three schools but with at least one BIE-funded school;

• Provides coordinating services and technical assistance to all relevant BIE-funded schools;

• Plans to monitor and audit these grant funds by or through the TED; and/or

• Provides a plan and schedule that:

○ Provides for:

The assumption, by the TED, of all assets and functions of the BIE agency office associated with the tribe, to the extent the assets and functions relate to education; and

the termination by the BIE of such functions and office at the time of such assumption; and

○ Provides that the assumption will occur over the term of the grant, unless mutually agreeable to the tribal governing body and the Assistant Secretary—Indian Affairs, the period in which such assumption is to occur may be modified, reduced, or extended after the initial year of the grant.

The BIE is seeking proposals from tribes that support the development and operation of TEDs for the purpose of planning and coordinating all educational programs of the tribe. Each proposal must include a project narrative, a budget narrative, a work plan outline, and a project coordinator, preferably the tribal education director or tribal council education committee member, to serve as the point of contact for the program. The project coordinator will: participate in monthly collaboration and update meetings, submit quarterly budget updates, ensure an annual report is submitted at the end of each project year, and ensure that the TED fulfills the obligations of the grant.

BIE is seeking proposals from tribes with at least one BIE funded school on their reservation/Indian lands that support the capacity building of TEDs to improve educational outcomes for students and improve efficiencies and effectiveness in the operation of BIE-funded schools. Grant recipients must submit quarterly budget updates and an annual report at the end of each project year to ensure that the TED fulfills the obligations of the grant. Complete details on requirements for proposals and the evaluation and selection process can be found on the BIE Web site at the address in the ADDRESSES section of this notice. In addition, BIE will hold pre-grant proposal training at several sites:

BIE Pre-Grant Proposal Training
Date | Time | Location
Tuesday, September 1, 2015 | 11:00 am Eastern Time | Webinar Session (Washington, D.C.): To register, go to: https://dcma100.webex.com/dcma100/k2/j.php?MTID=t331e10164ab35e15b12beaaacf55a720
Thursday, September 8, 2015 | 4:00 p.m. Eastern Time | Webinar Session (Washington, D.C.): To register, go to: https://dcma100.webex.com/dcma100/k2/j.php?MTID=t6a5b6779cb9a5391dd26de8ffef618b9
Monday, September 21, 2015 | 4:00 p.m. Eastern Time | Deadline for grant proposal submission.

The grant proposal is due September 21, 2015, at 4:00 p.m. Eastern Time. The proposal should be packaged for delivery to permit timely arrival. The proposal package should be sent or hand-delivered to the address in the ADDRESSES section of this notice.

Faxed grant proposals will NOT be accepted. Email submissions will be accepted at the address in the ADDRESSES section of this notice. Email submissions are limited to attachments compatible with Microsoft Office Word 2007 or later or files with a .pdf file extension. Emailed submissions must not exceed 5MB total in size.

Proposals submitted by Federal Express or Express Mail should be sent two or more days before the closing date to ensure receipt by the deadline. The proposal package should be sent to the address shown in the ADDRESSES section of this notice. The tribe is solely responsible for ensuring that its proposal arrives in a timely manner.

Dated: August 24, 2015.
Kevin K. Washburn,
Assistant Secretary—Indian Affairs.

[FR Doc. 2015-21339 Filed 8-27-15; 8:45 am]

BILLING CODE 4337-15-P